DEPARTMENT OF THE INTERIOR

Minerals Management Service

Notice of Additional Public Scoping Meeting on the Environmental Impact Statements for the Proposed 5-Year Outer Continental Shelf (OCS) Oil and Gas Leasing Program for 2007-2012; and Western and Central Gulf of Mexico, Oil and Gas Lease Sales for Years 2007-2012

SUMMARY: Pursuant to the regulations implementing the procedural provisions of the National Environmental Policy Act (42 U.S.C. 4321, et seq.), the Minerals Management Service (MMS) will hold a Public Scoping Meeting in Florida on the Environmental Impact Statements (EISs) for both the 2007-2012 Proposed 5-Year OCS Oil and Gas Leasing Program, and the tentatively scheduled 2007-2012 oil and gas leasing proposals in the Western and Central Gulf of Mexico off the States of Texas, Louisiana, Mississippi, and Alabama. The purpose of this meeting will be to solicit comments on the scope of both EISs. The meeting is in addition to the meetings announced in the Federal Register on March 3, 2006 and March 7, 2006.

Date and Location for Public Scoping Meeting in Florida:Thursday, April 6, 2006 “ Tallahassee-Leon County Civic Center, 505 Pensacola Street, Tallahassee, Florida, 1-3 p.m.

Contact: Mr. Dennis Chew, 504-736-2793. Information concerning the 5-year program and EIS can be accessed at: http://www.mms.gov/5-year/2007-2012main.htm.

Dated: March 9, 2006.
Keith Good,
Acting Associate Director for Offshore Minerals Management.

[FR Doc. 06-2556 Filed 3-14-06; 8:45 am]

BILLING CODE 4310-MR-P